DEPARTMENT OF EDUCATION

Regional Advisory Committees: Open Meeting

AGENCY: Office of Elementary and Secondary Education, U.S. Department of Education.

ACTION: Notice of an open meeting.

SUMMARY: This notice sets forth the date and agenda of the upcoming meeting of the 10 Regional Advisory Committees (RACs), and notifies the public of the opportunity to attend. This notice also describes the functions of the RACs. Notice of this meeting is required under section 10(a)(2) of the Federal Advisory Committee Act (FACA).

DATES: May 23 and May 24, 2011

Time: Monday, May 23: 11:15 a.m. until 5 p.m. Tuesday, May 24: 8:30 a.m. until 5 p.m.

ADDRESSES: Crystal Gateway Marriott, 1700 Jefferson Davis Highway, Arlington, Virginia, 703-920-3230.

FOR FURTHER INFORMATION CONTACT: Fran Walter, U.S. Department Education, 400 Maryland Avenue SW., room 3W115, Washington, DC 20202. Telephone: 202-205-9198 or by e-mail at fran.walter@ed.gov.

SUPPLEMENTARY INFORMATION: The RACs are established under section 206 of the Education Technical Assistance Act of 2002 (20 U.S.C. 9605). The RACs were established to advise the Secretary by (1) conducting an educational needs assessment of each region described in section 174(b) of the Education Sciences Reform Act of 2002; and (2) submitting reports for each region based on the regional assessments no later than four months after the committees are first convened.

The purpose of the meeting is to initiate the process of conducting an educational needs assessment of each of the 10 RAC regions.

The public is welcome to attend the May 23 and May 24 meeting. Individuals who will need accommodations for a disability in order to attend the meeting (e.g., interpreting services, assistive listening devices, materials in an alternative format) should notify Stephanie Wright at 202-260-7405 or by e-mail at stephanie.wright@ed.gov no later than May 18, 2011. We will attempt to meet requests submitted after this date, but cannot guarantee availability of the requested accommodation. The meeting site is accessible to individuals with disabilities.

Public Comment: The agenda for May 24, 2011 includes time for public comment, from 11 a.m. until 12 p.m. Each speaker will be allowed to make comments to the RACs for three minutes to speak. Those members of the public interested in submitting written comments may send them to Fran Walter, Room 3W115, Office of Elementary and Secondary Education, U.S. Department of Education, 400 Maryland Avenue, SW., Washington, DC 20202-6400 by May 23, 2011.

A summary of meeting activities will be available to the public online at http://www.ed.gov/about/bdscomm/list/rac/index.html within 14 days of the meeting and for public inspection at Room 3W221, 400 Maryland Avenue, SW., Washington, DC between the hours of 9 a.m. and 5 p.m.

Thelma Meléndez de Santa Ana,
Assistant Secretary for Elementary and Secondary Education.

[FR Doc. 2011-11441 Filed 5-9-11; 8:45 am]

BILLING CODE 4000-01-P